DEPARTMENT OF COMMERCE

International Trade Administration

A-570-836

Glycine from the People's Republic of China: Final Results of Antidumping Duty Administrative Review and Final Rescission, in Part

AGENCY: Import Administration, International Trade Administration, Department of Commerce.

SUMMARY: On April 12, 2007, the Department of Commerce (“the Department”) published in the Federal Register the Preliminary Results of the administrative review of the antidumping duty order on glycine from the People's Republic of China (“PRC”). See Glycine from the People's Republic of China: Preliminary Results of Antidumping Duty Administrative Review and Preliminary Rescission, in Part, 72 FR 18457 (April 12, 2007) (“Preliminary Results”). We gave interested parties an opportunity to comment on the Preliminary Results. Based upon our analysis of the comments and information received, we made changes to the margin calculations for the final results. We find that certain manufacturers/exporters sold subject merchandise at less than normal value during the period of review (“POR”) March 1, 2005, through February 28, 2006.

EFFECTIVE DATE: October 17, 2007.

FOR FURTHER INFORMATION CONTACT: Matthew Renkey, AD/CVD Operations, Office 9, Import Administration, International Trade Administration, U.S. Department of Commerce, 14th Street and Constitution Avenue, NW, Washington DC 20230; telephone: (202) 482-2312.

SUPPLEMENTARY INFORMATION:

Background

The following events have occurred subsequent to the publication of the Preliminary Results. On April 27, 2007, we extended the deadline for submitting surrogate value (“SV”) information by 30 days, to June 1, 2007. On June 1, 2007, parties ¹ submitted SV comments, and between June 4 and June 11, 2007, parties submitted rebuttal comments, as well as comments objecting to the submission of certain SV information by the other party. On June 14, 2007, we issued a letter stating that all SV information submitted by the parties would remain on the record and issued a supplemental questionnaire to NDCI regarding its ammonia factor of production (“FOP”). In the same letter, we also extended the deadlines for submitting case and rebuttal briefs. On June 25, 2007, NDCI submitted its response regarding its ammonia FOP. GSC did not file rebuttal comments to NDCI's June 25, 2007, response. On July 16, 2007, parties filed their case briefs, and on July 23, 2007, parties filed their rebuttal briefs. On July 27, 2007, we extended the time limit for the completion of the final results of this review until October 9, 2007. See Glycine from the People's Republic of China: Extension of Time Limit for the Final Results of the 2005-2006 Administrative Review, 72 FR 41292 (July 27, 2007). On October 2, 2007, we issued a letter rejecting as new factual information the surrogate value information filed by GSC on June 11, 2007, and requested that parties re-file their case and rebuttal briefs without reference to that submission by October 4, 2007. On October 3, 2007, GSC filed a letter objecting to the Department's letter of October 2, 2007. On October 4, 2007, the Department issued a letter providing an opportunity for NDCI to respond to GSC's letter of October 3, 2007. In the same letter, the Department also stated that parties did not need to re-file their case and rebuttal briefs until they received further notice. On October 5, 2007, NDCI filed a letter stating that the Department was correct to reject the surrogate value information GSC submitted on June 11, 2007, and that the Department should also reject GSC's October 3, 2007 letter.

¹ The domestic interested party participating in this review is Geo Specialty Chemicals, Inc. (“GSC”), and the respondent party participating in this review is Nantong Dongchang Chemical Industry Corp. (“NDCI”).

Analysis of Comments Received

All issues raised in the case and rebuttal briefs by parties to this review are addressed in the Antidumping Duty Order on Glycine from the People's Republic of China: Issues and Decision Memorandum for the 2005-2006 Administrative Review, dated October 9, 2007 (“Issues and Decision Memo”), which is hereby adopted by this notice. A list of the issues which parties raised and to which we respond in the Issues and Decision Memo is attached to this notice as an Appendix. The Issues and Decision Memo is a public document and is on file in the Central Records Unit CRU, Main Commerce Building, Room B-099, and is accessible on the Web at http://ia.ita.doc.gov/frn/. The paper copy and electronic version of the memorandum are identical in content.

Changes Since the Preliminary Results

Based on our analysis of information on the record of this review, and comments received from the interested parties, we have made changes to the margin calculations for the respondent.

We have changed two of the SVs used in the Preliminary Results. The values that were modified for these final results are those for ammonia and the surrogate financial ratios. For further details see Issues and Decision Memo at Comments 1 and 2 and Antidumping Duty Administrative Review of Glycine from the People's Republic of China: Surrogate Values for the Final Results, dated October 9, 2007. In addition, we have incorporated, where applicable, post-preliminary clarifications and calculation corrections. For further details on these changes, see Issues and Decision Memo at Comments 4 and 7.²

² The specific calculation changes for NDCI can be found in the Memorandum to the File, Administrative Review of Glycine from the People's Republic of China: Analysis for the Final Results of Nantong Dongchang Chemical Industry Corp., dated October 9, 2007.

Scope of the Order

The product covered by the order is glycine, which is a free-flowing crystalline material, like salt or sugar. Glycine is produced at varying levels of purity and is used as a sweetener/taste enhancer, a buffering agent, reabsorbable amino acid, chemical intermediate, and a metal complexing agent. This review covers glycine of all purity levels. Glycine is currently classified under subheading 2922.49.4020 of the Harmonized Tariff Schedule of the United States (HTSUS). Although the HTSUS subheading is provided for convenience and Customs purposes, the written description of the merchandise under the order is dispositive.

Partial Recession of the Administrative Review

In the Preliminary Results, the Department issued a notice of intent to rescind the administrative review with respect to Baoding Mantong Fine Chemistry Co., Ltd. (“Baoding Mantong”) because we found no evidence that it made shipments of subject merchandise during the POR. The Department received no comments on this issue, and we did not receive any further information since the issuance of the Preliminary Results that provides a basis for a reconsideration of this determination. Therefore, the Department is rescinding this administrative review with respect to Baoding Mantong.

Separate Rates

In our Preliminary Results, we determined that NDCI met the criteria for the application of a separate rate. We have not received any information or comments since the issuance of the Preliminary Results that provides a basis for reconsideration of this determination. Therefore, the Department continues to find that NDCI meets the criteria for a separate rate.

Final Results of the Review

The Department has determined that the following final dumping margin exists for the period March 1, 2005, through February 28, 2006:

Glycine from the PRC
Manufacturer/Exporter | Weighted-Average Margin (Percent)
Nantong Dongchang Chemical Industry Corp. | 38.67

The Department will disclose calculations performed for these final results to the parties within five days of the date of publication of this notice in accordance with 19 CFR 351.224(b).

Assessment Rates

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these final results of this administrative review for all shipments of the subject merchandise entered, or withdrawn from warehouse, for consumption on or after the publication date, as provided for by section 751(a)(2)(C) of the Tariff Act of 1930, as amended (“the Act”): (1) for subject merchandise exported by Nantong Dongchang, the cash-deposit rate will be that established in the final results of review; (2) for previously reviewed or investigated exporters not listed above that have separate rates, the cash-deposit rate will continue to be the exporter-specific rate published for the most recent period; (3) for all PRC exporters of subject merchandise, which have not been found to be entitled to a separate rate, the cash-deposit rate will be the PRC-wide rate of 155.89 percent; (4) for all non-PRC exporters of subject merchandise that have not received their own rate, the cash-deposit rate will be the rate applicable to the PRC exporter that supplied that non-PRC exporter. These deposit requirements shall remain in effect until further notice.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of the final results of this administrative review is issued and published in accordance with sections 751(a)(1) and 777(i) of the Act, and 19 CFR 351.213 and 351.221(b)(5).

Dated: October 9, 2007.
David M. Spooner,
Assistant Secretary for Import Administration.

Appendix I

I. ISSUES & DECISION MEMORANDUM COMMENTS:

Comment 1: Ammonia Surrogate Value

Comment 2: Selection of Surrogate Financial Companies

Comment 3: Chlorine Surrogate Value

Comment 4: U.S. Inland Freight Valuation

Comment 5: Zeroing

Comment 6: CBP Assessment

Comment 7: Ministerial Errors

[FR Doc. E7-20452 Filed 10-16-07; 8:45 am]

BILLING CODE 3510-DS-S